Title 3—

The President

Proclamation 9198—United Nations Day, 2014

Correction

In Presidential document 2014-25788 beginning on page 64293 in the issue of Tuesday, October 28, 2014, make the following correction:

On page 64293, the date following “Proclamation 9198 of” should read “October 23, 2014”.

[FR Doc. C1-2014-25788

Filed 12-5-14; 8:45 am]

Billing Code 1505-01-D